DEPARTMENT OF HEALTH AND HUMAN SERVICES

Administration for Children and Families

[CFDA Number: 93.670]

Announcing the Award of a Single-Source Program Expansion Supplement to Zero to Three in Washington, DC, for the Quality Improvement Center for Research-Based Infant-Toddler Court Teams

AGENCY: Children's Bureau, Administration on Children, Youth and Families, ACF, HHS.

ACTION: Notice of the award of a single-source program expansion supplement to Zero to Three for the expansion of the Quality Improvement Center for Research-Based Infant-Toddler Court Teams.

SUMMARY: The Administration for Children and Families (ACF), Administration on Children, Youth and Families (ACYF), Children's Bureau (CB), announces the award of a single-source program expansion supplement in the amount of $3,000,000 to Zero to Three, Washington, DC, for the expansion of the Quality Improvement Center for Research-Based Infant-Toddler Court Teams to promote collaboration with the courts and state, county, or tribal child welfare systems, and other community-based agencies to increase their capacity to incorporate evidence-based practices (EBPs) to strengthen parenting and promote healthy development for infants and toddlers involved with child welfare.

DATES: Supplemental funds will support activities from September 30, 2015 through September 29, 2017.

FOR FURTHER INFORMATION CONTACT: David Kelly, Court Improvement Specialist, Children's Bureau, 330 C Street SW., Washington, DC 20201. Telephone: 202-205-8709; Email: David.Kelly@acf.hhs.gov.

SUPPLEMENTARY INFORMATION: Award funds will support the development of additional demonstration sites and the development of resources and guides designed to help infuse promising practices and strategies into child welfare practice nationally. Zero to Three is uniquely positioned to expand this project as a result of their work as the current grantee to launch and operate the Quality Improvement Center for Research-Based Infant-Toddler Court Teams. The project is currently in its inaugural year.

Statutory Authority: The statutory authority is section 105(b)(5) of the Child Abuse Prevention and Treatment and Adoption Reform Act of 1978 (42 U.S.C. 5106(b)(5)), as most recently amended by CAPTA Reauthorization Act of 2010.

Christopher Beach,
Senior Grants Policy Specialist, Division of Grants Policy, Office of Administration.

[FR Doc. 2016-08521 Filed 4-13-16; 8:45 am]

BILLING CODE 4184-29-P